INTERNATIONAL TRADE COMMISSION

[Investigation No. 731-TA-377 (Review)]

Internal Combustion Industrial Forklift Trucks From Japan

Determination

On the basis of the record ¹ developed in the subject five-year review, the United States International Trade Commission determines,² pursuant to section 751(c) of the Tariff Act of 1930 (19 U.S.C. 1675(c)) (the Act), that revocation of the antidumping duty order on internal combustion industrial forklift trucks from Japan would be likely to lead to continuation or recurrence of material injury to an industry in the United States within a reasonably foreseeable time.

¹ The record is defined in sec. 207.2(f) of the Commission's Rules of Practice and Procedure (19 CFR 207.2(f)).

² Chairman Lynn M. Bragg, Commissioner Thelma J. Askey, and Commissioner Deanna Tanner Okun dissenting.

Background

The Commission instituted this review on April 1, 1999 (64 FR 15786) and determined on July 2, 1999, that it would conduct a full review (64 FR 38475, July 16, 1999). Notice of the scheduling of the Commission's review and of a public hearing to be held in connection therewith was given by posting copies of the notice in the Office of the Secretary, U.S. International Trade Commission, Washington, DC, and by publishing the notice in the Federal Register on August 27, 1999 (64 F.R. 46952). The hearing, scheduled to be held in Washington, DC, on January 25, 2000, was cancelled as a result of a Federal Government closure in Washington, DC due to inclement weather on January 25 and 26, 2000. On January 28, 2000, the schedule was revised (65 FR 5660, February 4, 2000) and all persons who requested the opportunity to be heard at the original hearing were permitted to submit written testimony to the Commission in lieu of the public hearing.

The Commission transmitted its determination in this review to the Secretary of Commerce on April 4, 2000. The views of the Commission are contained in USITC Publication 3287 (April 2000), entitled Internal Combustion Industrial Forklift Trucks from Japan: Investigation No. 731-TA-377 (Review).

Issued: April 5, 2000.
By order of the Commission.
Donna R. Koehnke,
Secretary.

[FR Doc. 00-8779 Filed 4-7-00; 8:45 am]

BILLING CODE 7020-02-P